Proclamation 9873 of April 30, 2019

Loyalty Day, 2019

By the President of the United States of America

A Proclamation

On Loyalty Day, we express our dedication to our Nation and our Constitution as the greatest means to “secure the Blessings of Liberty to ourselves and our Posterity.” As Americans, we recommit to preserving our liberty and the framework of limited government that safeguards it from abuse. On May 1, 1955, President Eisenhower issued the first Loyalty Day proclamation, calling on people to recognize the heritage of American freedom and reaffirm our commitment to the principles that make our country great. On this day, we renew this call and our pledge to defend the Constitution and rule of law. We also remember those who have protected our values, and we renew our resolve that America will never be a socialist country—our Republic was conceived in freedom and will remain free.

Other nations are founded on some common lineage, shared language, or other convenience. Ours alone is founded on a set of shared ideas. The Founding Fathers established a republic, in which the power of government derives from the consent of the governed. This new republic would exist to secure the right of the people to life, liberty, and the pursuit of happiness. The Declaration of Independence proclaimed this revolutionary philosophy to the world, and it was later enshrined in our Constitution. By virtue of our devotion to the rule of law and other founding principles, we have stood united both in times of prosperity and in times of strife. As I said during my Inaugural Address, “through our loyalty to our country, we will rediscover our loyalty to each other”—and through loyalty to each other we will restore our great country.

Every day, we must remember our incredible history, be grateful for the country we inherited, and protect our rights and our sovereignty. Today, we especially honor the exceptional men and women who have served in the United States Armed Forces and who have given so much for our freedom and peace around the world. By risking their lives to protect their fellow Americans and our precious liberty, service members and veterans exemplify loyalty and love of country. Their sacrifice reminds us that we must always be ready to defend our rights from those who seek to destroy our way of life.

To express our country's loyalty to individual liberty, to limited government, and to the inherent dignity of every human being, the Congress, by Public Law 85-529, as amended, has designated May 1 of each year as “Loyalty Day.” On this day, we honor the United States of America and its values, as well as those who have fought and continue to fight for our freedom.

NOW, THEREFORE, I, DONALD J. TRUMP, President of the United States of America, do hereby proclaim May 1, 2019, as Loyalty Day. I call on Americans to observe this day with appropriate ceremonies in our schools and other public places, including the recitation of the Pledge of Allegiance to the Flag of the United States of America. I also call upon all Government officials to display the flag of the United States on all Government buildings and grounds on that day.

IN WITNESS WHEREOF, I have hereunto set my hand this thirtieth day of April, in the year of our Lord two thousand nineteen, and of the Independence of the United States of America the two hundred and forty-third.

[FR Doc. 2019-09327

Filed 5-3-19; 8:45 am]

Billing code 3295-F9-P